DEPARTMENT OF ENERGY

Federal Energy Regulatory Commission

[Docket No. RP02-166-003]

Florida Gas Transmission Company; Notice of Compliance Filing

August 21, 2002.

Take notice that on August 13, 2002, Florida Gas Transmission Company (“FGT”) tendered for filing to become part of its FERC Gas Tariff, Third Revised Volume No. 1 (“Tariff”) effective April 1, 2002, the following tariff sheet:

Substitute Second Revised Sheet No. 209

FGT states that on August 1, 2002, the Commission issued an order (“August 1 Order”) directing FGT to file, within ten days from the date of the order, a tariff sheet listing its Phase V service agreements as non-conforming in accordance with Section 154.112(b) of the Commission's regulations, which requires that service agreements that deviate in any material aspect from the form of service agreement be filed with the Commission and referenced in FERC Volume No. 1. On August 7, 2002, FGT submitted tariff revisions (“August 7 Filing”) in response to the August 1 Order.

FGT further states that the August 7 Filing inadvertently listed two agreements originally filed with FGT's Phase V expansion application, but which were thereafter terminated and did not go into effect. Specifically, the agreements with Dynegy Marketing and Trade (“Dynegy”) and Enron North America Corp. (“ENA”) were submitted on December 1, 1999, with FGT's original application in Docket No. CP00-40-000. Dynegy and ENA subsequently exercised rights in their agreements to terminate the agreements. FGT subsequently entered into a long-term contract with Tampa Electric Company (“TECO”), which was submitted with FGT's amended application in Docket No. CP00-40-001 on August 1, 2000. FGT states that the instant filing is submitted in order to correctly reflect the effective Phase V service agreements by deleting the Dynegy and ENA agreements from the list of non-conforming agreements filed in the August 7 Filing and adding the TECO agreement. The subheading “Rate Schedule FTS-2” and the individual contract numbers have also been added to further identify the agreements.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. See, 18 CFR 385.2001(a)(1)(iii) and the instructions on the Commission's Web site under the “e-Filing” link. The Commission strongly encourages electronic filings.

Linwood A. Watson, Jr.,
Deputy Secretary.

[FR Doc. 02-21857 Filed 8-27-02; 8:45 am]

BILLING CODE 6717-01-P